DEPARTMENT OF THE TREASURY

Alcohol and Tobacco Tax and Trade Bureau

[Notice No. 9]

Establishment of COLAs Online Electronic Filing System

AGENCY: Alcohol and Tobacco Tax and Trade Bureau (TTB), Treasury.

ACTION: Notice.

SUMMARY: The Alcohol and Tobacco Tax and Trade Bureau announces the establishment of the COLAs Online electronic filing system. This system will allow alcohol beverage bottlers and importers to file and receive approval of TTB Form 5100.31, Application for and Certification/Exemption of Label/Bottle Approval (COLA), electronically over the Internet.

DATES: The COLAs Online system will be operational on June 2, 2003.

ADDRESSES: Access the COLA Online system via the Alcohol and Tobacco Tax and Trade Bureau Web site at http://www.ttb.gov.

FOR FURTHER INFORMATION CONTACT: If you have a question regarding the COLAs Online system, contact the Advertising, Labeling and Formulation Division (ALFD) toll free at 1-866-927-2533, via e-mail at alfd@ttb.gov, or write ALFD at 650 Massachusetts Avenue, NW., Suite 5200, Washington, DC 20226.

SUPPLEMENTARY INFORMATION:

Background

The Alcohol and Tobacco Tax and Trade Bureau (TTB) is launching an online system for the electronic filing, processing, and approval of TTB Form 5100.31, Application for and Certification/Exemption of Label/Bottle Approval (COLA). TTB created COLAs Online electronic filing system to comply with the Government Paperwork Elimination Act (GPEA), which requires Federal Government agencies to offer their customers e-filing solutions by October 2003.

The COLAs Online system provides alcohol beverage bottlers and importers with a streamlined, more expedient, and paperless means to obtain a COLA from TTB's Advertising, Labeling and Formulation Division (ALFD). The system allows registered users to submit COLAs to ALFD via the Internet, as well as provide a way for ALFD to review the application electronically. Submitted applications are electronically approved, returned for correction, or rejected. The system also allows industry members to obtain online status updates on electronically filed forms and allows the public to view approved COLAs, including the electronically filed labels.

Please Note: Alcohol beverage industry members are not required to use the COLAs Online filing system. You may continue to submit paper COLA forms to ALFD.

Using the COLAs Online System

You may access the COLAs Online electronic filing system by visiting the Alcohol and Tobacco Tax and Trade Bureau Web site at http://www.ttb.gov. This site contains all the instructions and forms necessary to become a registered COLAs Online user.

To register for COLAs Online, we require industry members to complete the system's registration form, TTB F 5013.2, COLAs Online Access Request. As part of the registration process, we will issue each registrant a user ID and password allowing access to TTB's COLAs Online system.

We may also require applicants to complete ATF F 5000.8, Power of Attorney, if they do not have signature authority or power of attorney to sign the required documents on behalf of the company for which they are filing label applications. If the industry representative already has a power of attorney, they will need to submit a copy along with the registration form when applying to register as a COLAs Online user.

COLA forms are legally binding documents whether submitted on paper or electronically. The COLAs Online system requires users to agree to a penalty of perjury statement before completing the application process. Instead of hand signing the COLA form, the applicant will select a box titled “I agree” before finalizing the submission. The selection of this box legally binds the applicant and declares that all the statements appearing on the application and labels are true and correct and that the applicant has read, understood, and complied with the conditions and instructions on the COLA form, TTB F 5100.31.

If you have a question regarding the new COLAs Online electronic filing system, contact TTB's Advertising, Labeling and Formulation Division toll free at 1-866-927-2533, via e-mail at alfd@ttb.gov, or write the Division at 650 Massachusetts Avenue, NW., Suite 5200, Washington, DC 20226.

Signed: May 1, 2003.
Arthur J. Libertucci,
Administrator.

[FR Doc. 03-13669 Filed 5-30-03; 8:45 am]

BILLING CODE 4810-31-P